DEPARTMENT OF STATE

[Public Notice 6912]

Bureau of Educational and Cultural Affairs (ECA) Request for Grant Proposals (RFGP): One-time Competitive Grants Program—Competition B—Professional, Cultural, and Youth One-time Grants Program

Announcement Type: New Grant.

Funding Opportunity Number: ECA/PE/C-10-One-time-Comp. B.

Catalog of Federal Domestic Assistance Number: 19.014.

Key Dates:

Application Deadline: April 12, 2010.

Executive Summary: This competition is one of two competitions that the Bureau of Educational and Cultural Affairs is conducting per the Conference Report (House Report 111-366) accompanying the Consolidated Appropriations Act, 2010 (Pub. L. 111-117) under Division F of the Department of State, Foreign Operations and Related Programs Appropriation Act 2010, “Educational and Cultural Exchange Programs” in support of a $8 million “One-Time Competitive Grants Program.” All applications must be submitted by public or private non-profit organizations, meeting the provisions described in Internal Revenue code section 26 U.S.C. 501(c)(3). Total funding for this “One-Time Competitive Grants Program” is $8 million dollars. Four million will be dedicated to this competition, Competition B—Professional, Cultural and Youth One-time Grants Program—reference number ECA/PE/C-10-One-time-Comp.B, and $4 million will be dedicated to and announced simultaneously in a separate RFGP, Academic Programs One-time Grants Program—reference number ECA/A-10-One-time-Comp.A. Please note: The Bureau reserves the right to reallocate funds it has initially allocated to each of these two competitions, based upon factors such as the number of applications received and responsiveness to the review criteria outlined in each of the solicitations.

Applicants may submit only ONE proposal (TOTAL) to ONE of the two competitions referenced above. In addition, applicants under this competition, ECA/PE/C-10-One-time-Comp.B may only apply to administer one of the listed activities (total). If multiple proposals are received from the same applicant, all submissions will be declared technically ineligible and will be given no further consideration in the review process. Eligible applicants are strongly encouraged to read both RFGPs thoroughly, prior to developing and submitting proposals, to ensure that proposed activities are appropriate and responsive to the goals, objectives and criteria outlined in each of the solicitations.

As further directed by the Congress, “The program shall be only for the actual exchange of people and should benefit a population that is not being addressed through existing authorized exchanges.”

The Bureau of Educational and Cultural Affairs announces a competition for grants that support international exchanges in order to increase mutual understanding and build relationships, through individuals and organizations, between the people of the United States and their counterparts in other countries. The Bureau welcomes proposals from organizations that have not had a previous grant from the Bureau as well as from those which have; see eligibility information below and in section III.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Background

The Conference Agreement (House Report 111-366) accompanying the Consolidated Appropriations Act, 2010 (Pub. L. 111-117) under Division F of the Department of State, Foreign Operations and Related Programs Appropriation Act 2010, “Educational and Cultural Exchange Programs” provides support for a $8 million One-Time Competitive Grants Program. “The conferees also endorse language in the House and Senate Reports regarding this competitively awarded grants program.”

As referenced in the Senate Report 111-44, “* * * an exchange program that received a one-time grant in a previous year is ineligible for additional one-time funding, but the Committee encourages the Department to consider new proposals from previously funded grantees within discretionary funding if they meet appropriate guidelines. Please see eligibility information below and in section III. Programs shall support the actual exchange of people and should benefit a population that is not being addressed through existing authorized exchanges, such as exchanges with developing countries which target community leaders, students and youth with high financial need and minority and ethnic groups.

Grants shall address issues of mutual interest to the United States and other countries, consistent with the program criteria established in Public Law 110-161.

Purpose: ECA anticipates awarding approximately 12-15 grants under this FY 2010 Competition B Professional, Cultural, and Youth One-time Grants Program. Each grant should sponsor an exchange of approximately equal numbers of American participants traveling to the partner country(ies) and participants from the partner country(ies) traveling to the U.S. In addition, the projects should set clear learning objectives for both foreign and American participants, thereby supporting the Fulbright-Hays Act purpose of increasing mutual understanding. Also, the applicant should have the necessary capacity in the partner country through their own overseas offices or a partner institution to carry out the proposed project. Proposals must respond to one specific theme under one of the following programs:

Emerging Youth Leaders: For high school students (ages 15-17) and educators.

1. Democracy and Free Expression in Civil Society.

Emerging Young Professionals: For young adults (ages 22-35).

1. Environmental issues.

2. Post-conflict governing.

3. Development of Grassroots Organizations for Women.

4. Good government/Rule of Law.

5. Community-based Volunteerism.

Emerging Cultural Leaders: “Rooted in the Arts” program for U.S. performing artists (ages 25-35) and teachers.

Please note each of the aforementioned programs is limited to specific countries. More detailed descriptions of these programs, themes and eligible countries are included below.

In order to emphasize ECA's interest in clarity of project purpose and, later, to track projects and to evaluate their results, all proposals must be presented in the following order:

Tab A—Application for Federal Assistance Cover Sheet

Tab B—Executive Summary

In one double-spaced page, provide the following information:

1. Names of the applicant organization and other participating institutions, both American and foreign.

2. Beginning and ending dates of the project.

3. Grant theme being addressed.

4. Numbers of American and foreign participants.

5. Types and approximate dates of project activities and their venues.

6. Total number of exchange days, including only those days when international travelers are in program status in the partnering country.

Tab C—Narrative

In no more than 20 double-spaced, single-sided pages, use the following format to describe the proposed project in detail:

A. Purpose

1. Definition of the overall goal to be pursued through a two-way exchange project. Name the theme from those listed under Emerging Youth Leaders, Emerging Young Professionals, or Emerging Cultural Leaders into which this goal should fit.

2. Country or countries to take part, and why chosen.

3. Category of persons to participate, with explanation of why that category is chosen and how it fits the requirement that it is a population that is not being addressed through existing authorized exchanges.

4. Description of program activities to take place (e.g., workshops, internships, community service, job shadowing, model site visits, cultural activities, etc).

B. Objectives: Based on the purpose described above, delineate your project's main objectives (no more than five) and outcomes you expect as a result of your project's activities. For each outcome, please state the time frame for achievement. Your objectives and outcomes should be realistic in scope. They should be guided by one or more of the following questions. (Please see section IV.3d.3. Project Monitoring and Evaluation for assistance in identifying and defining outcomes.)

1. What specifically will participants, U.S. and foreign, learn as a result of this project?

2. What new attitudes will participants, U.S. and foreign, develop, or what new ideas will they encounter as a result of this project?

3. How will the participants' behavior change as a result of this project? What new actions will they take?

4. Will participants be a catalyst for change in their schools, work-places, communities, or institutions? How so?

C. Evaluation: The Bureau places high importance on monitoring and evaluation as a means of ensuring and measuring a project's success. Proposals must include a detailed monitoring and evaluation plan that assesses the impact of the project. Please refer to section. IV.3d.3. Project Monitoring and Evaluation below.

Tab D—Budget

Both a summary budget for administrative and programmatic expenses and a detailed, line-item budget must be presented in the three-column format illustrated in the PSI. Eligible expenses are described in IV.3e of this RFGP and in the PSI. Enough information should be provided so that reviewers can determine how line-item totals were calculated.

Tab E—Letters of Endorsement and Resumes

Resumes should not exceed two pages each.

Tab F—Copy of IRS Notification of Current Tax-exempt Status, SF-424B, and Other Attachments if Applicable

Please refer to the Proposal Submission Instructions (PSI) document for detailed information on proposal structuring and formatting.

Emerging Youth Leaders

Program Contact: Anna Mussman, tel: 202-632-6427, e-mail MussmanAP@state.gov.

The Emerging Youth Leaders program provides opportunities for high school students (ages 15-17) and educators in the United States and in Mongolia, Indonesia or Rwanda to participate in two-way exchanges, each three to four weeks in duration. This project explores a specific theme designed to develop critical leadership skills for aspiring young leaders and encourages respect for diversity, fosters mutual understanding, and promotes critical thinking. An essential element of this project is to build mutual understanding and respect among the people of the United States and the people of the exchange partner country.

The overarching goals are:

1. To develop a sense of civic responsibility and commitment to the global community;

2. To instill an appreciation of first amendment ideals, particularly the importance of free expression in a democracy;

3. To promote mutual understanding between the United States and the people of other countries around topics of common interest; and to foster personal and institutional ties between participants and partner countries.

The applicant should present a program plan that allows the participants to thoroughly explore the project themes in a creative, memorable, and practical way. Activities should be designed to be replicable and provide practical knowledge and skills that the participants can apply to school and civic activities at home.

Applicants will manage the design and planning of activities that provide a substantive, educational program on leadership, critical thinking, and youth activism, as well as on the specified theme, through academic, virtual and extracurricular components. Activities should take place in schools, online and in the community. Community service must also be included. It is crucial that programming involve the participants' peers in the host countries whenever possible. The program will also include opportunities for the educators to work with their American peers and other professionals and volunteers to help them foster youth leadership, civic education, new media outreach, and community service programs at home.

A successful project will be one that nurtures a cadre of students and educators to be actively engaged in addressing issues of concern in their schools and communities upon their return home. Project activities will equip youth with the knowledge, skills, and confidence to become citizen activists and ethical leaders, including in cyberspace. Participants will be engaged in a variety of activities such as workshops, community and/or school-based programs, seminars, weblogs and other activities that focus on the fundamentals of free expression that are found in the First Amendment to the U.S. Constitution: Freedom of religion, speech, press, assembly and petition. Multiple opportunities for participants to interact with youth and educators in the host country must be included. Participants will have homestays with local families for the majority of the exchange period, although participants may spend a modest portion of their time as a group in a hotel or dormitory setting. Applicants must outline their plan for recruiting, screening and orienting host families (who will provide both food and lodging), as well as a plan for appropriate supervision of participants in other living arrangements.

Grant recipients will recruit and select the participants in the United States, as well as in the partner country through close consultation with the relevant U.S. Embassy; organize all exchange activities in the participating countries; and implement follow-on activities in which participants may apply at home what they have learned during the exchange.

The project will provide participants with a theoretical framework that will be underpinned by site visits that illustrate methods and strategies of practical implementation. The project will also help the participants develop leadership skills, such as influential public speaking, team-building, and goal-setting, so that they are prepared to take action with what they have learned.

Themes and Eligible Partner Countries:

ECA will accept proposals in the specific theme and corresponding countries as indicated below. A single-country project is a two-way exchange between the United States and a single partner country. Applicants should present a rationale for their approach. Proposals that target countries or themes not listed in this solicitation will be deemed technically ineligible.

(1) Democracy, Free Expression and Governance in Civil Society:

ECA welcomes proposals that will explore the fundamentals of a civil society as related to first amendment ideals, with a special focus on free expression. Proposed programs will promote a respect for transparent governance that is responsive to citizens' concerns and increase participant understanding of first amendment principals so that citizens can improve governance, fight corruption, and ensure accountability.

Geographic Regions and Eligible Countries:

Africa: Rwanda.

East Asia and Pacific: Indonesia (single-country project only, Mongolia (single-country project only)

Proposal narratives must demonstrate the applicant's capacity in the partner country through their own offices or a partner institution to successfully conduct the proposed exchange activities. The requisite capacity overseas includes the ability to organize substantive exchange activities for the American participants, provide follow-on activities, and handle the logistical and financial arrangements.

Applicants should propose the time periods of the two exchanges, but the exact timing of the project may be altered through the mutual agreement of the Department of State and the grant recipient. The program should be no less than three weeks and up to four weeks in duration.

These two-way exchanges should involve the same communities in each country, as the second reciprocal exchange will help reinforce the relationships and program content developed during the first exchange. Project staff should help facilitate regular program-oriented communication among the exchange participants between the two exchanges, including via the Internet, Skype and other new media.

The exchange participants will be high school students between the ages of 15 and 17 who have demonstrated leadership abilities in their schools and/or communities, and have at least one year of high school remaining after the completion of the exchange. The adult participants will be high school teachers or community leaders who work with youth. They will have a demonstrated interest in youth leadership and will be expected to remain in positions where they can continue to work with youth. The ratio of youth to adults should be between 5:1 and 10:1. Participants will be proficient in the English language.

Emerging Young Professionals

Program Contacts:

For Programs based in:

Africa: Curtis Huff: tel: 202-632-6053, e-mail: HuffCE@state.gov.

East Asia and the Pacific: Adam Meier: tel: 202-632-6071, e-mail: MeierAW2@state.gov.

Europe: Linnea Allison, tel: 202-632-6060, e-mail: AllisonLA@state.gov.

Near East and North Africa: Thomas Johnston: tel: 202-632-6056, e-mail: JohnstonTA@state.gov.

South and Central Asia: Brent Beemer: tel: 202-632-6067, e-mail: BeemerBT@state.gov.

The Western Hemisphere: Carol Herrera: tel: 202-632-6052, e-mail: HerreraCA1@state.gov.

The Emerging Young Professionals program offers opportunities for young adults (approximately 22-35 years old) to participate in two-way exchanges of approximately three to four weeks or more in duration to develop their leadership skills and to increase mutual understanding between their countries and the United States. Exchange projects should build participants' leadership skills, including how to conceptualize and develop projects to reach diverse citizenry, using clear objectives, solid management structures and evaluation feedback mechanisms for projects at the local level. Participants should be community leaders, political leaders, educators, and/or advocates for youth, or persons who show the capacity to become effective in those roles.

Projects should be two-way in purpose and implementation, with approximately equal numbers of participants traveling to and from the United States for approximately equal periods of time. Consistent with this approach, project plans should promote learning and teaching by participants from all countries in the project to promote mutual understanding and build individual and institutional partnerships that are likely to continue beyond the grant project. Proposals that clearly delineate salient objectives in measurable terms and plan activities in a sequence that will progressively lead to achieving those objectives, will be considered more competitive on the review criterion of ability to achieve program objectives.

Themes and Eligible Partner Countries:

ECA will consider proposals for either single-country or multi-country projects. A single-country project is a two-way exchange between the United States and a single partner country. A multi-country project involves participants from more than one country coming to the United States together, and American participants traveling to those countries. The Bureau prefers projects that will engage both Americans and international participants deeply enough that relationships will continue beyond the grant-funded activities. Competitive proposals will be those that demonstrate why any country or group of countries has been identified for a specific project and outline why the specific group of participants to be selected from that country/countries is an effective group to achieve project objectives. Proposals that target countries or themes not listed in this solicitation will be deemed technically ineligible. No guarantee is made or implied that grants will be awarded in all themes and for all countries listed. Organizations should consider current U.S. Department of State travel advisories when selecting the countries with which they would like to work.

1. Environmental issues: These projects should focus on a shared environmental issue of the participating countries (e.g., use of natural resources, pollution, sustainable energy, recycling, land management). Participants should jointly examine a problem or group of issues, through study of public interest and government policy statements, and then participate in experiential learning exercises to build mutual approaches to the issue, and develop their own recommendations for addressing it.

Geographic Regions and Eligible Countries

Africa: Nigeria.

East Asia & the Pacific: China.

Europe: Russia.

Near East & North Africa: Egypt, Israel, Jordan, Palestinian Authority.

2. Post-conflict governance: These projects are for countries that are emerging from regional or civil war in recent years. Projects should allow participants to experience creative approaches to governing in a post-conflict country. Developing working relationships with colleagues from opposite sides of a past conflict; breaking down barriers to implement governmental administration; and how a new post-conflict government promotes tolerance and diversity should be addressed in these projects. Participants should practice different methods and receive hands-on experiential learning.

Geographic Regions and Eligible Countries

Africa: Angola, Mozambique.

Europe: Republic of Ireland, Northern Ireland (UK) (both must be included).

South/Central Asia: Nepal, Sri Lanka.

3. Development of Grassroots Organizations for Women: These projects should work to expand the capacity of grassroots organizations that advocate empowering women. Projects should work to build capacity in practice, giving locally-based leaders opportunities to adopt best practices by doing. Projects might address trafficking, the role and rights of women, domestic violence, and women's empowerment. When possible, joint projects should be developed, implemented, monitored and evaluated by both the U.S. and international sides.

Geographic Regions and Eligible Countries

Africa: Benin, Togo.

Near East and North Africa: Jordan, Palestinian Authority, Syria.

Western Hemisphere: Belize (and at least one of the following countries): Costa Rica, El Salvador, Guatemala, Honduras, Nicaragua, Panama.

4. Good government/Rule of Law: These projects could address issues of corruption, the need to develop transparent procedures of lawmaking and enforcement, the strengthening of judicial independence, the importance of accountability in law enforcement, or the training of civil servants.

Geographic Regions and Eligible Countries

Africa: Cameroon, Cote d'Ivoire, South Africa.

East Asia and the Pacific: Cambodia, East Timor, Laos.

Europe: Georgia, Russia, Ukraine.

Near East and North Africa: Egypt, Palestinian Authority.

5. Community-based Volunteerism: These programs should highlight the benefits, organizations, and implementations of community-based volunteerism programs in the United States and overseas. How these programs are arranged, how volunteers are recruited, and how the projects implementation are done should be covered.

Geographic Regions and Eligible Countries

Africa: Botswana.

Near East and North Africa: Egypt, Jordan, Morocco, Palestinian Authority.

South/Central Asia: Bangladesh, India, Kyrgyzstan, Tajikistan.

Western Hemisphere: Dominican Republic, Haiti (joint projects where applicable).

Proposal narratives must demonstrate the applicant's capacity in the partner country through their own offices or a partner institution to successfully conduct the proposed exchange activities. The requisite capacity overseas includes the ability to organize substantive exchange activities for the American participants, provide follow-on activities, and handle the logistical and financial arrangements.

Emerging Cultural Leaders

Program Contact: Catherine Staples-Randolph, tel: 202-632-6425, e-mail: StaplesCD@state.gov.

The `Rooted in the Arts' program provides opportunities for U.S. musicians (ages 25-35), authors, creative writers, teachers and students to build long-term sustainable linkages with their counterparts in selected countries. The project should connect economically and socially diverse populations of high school and/or college students and their teachers in the U.S. with comparable populations in the selected countries. The project must include two-way physical exchanges of musicians, authors, and teachers (but not students), each two to four weeks in duration. It must also include social media communications technology, such as Internet-based social networking, online learning communities, or videoconferencing to provide the participants with ongoing opportunities to communicate with their counterparts abroad. It is expected that communication via technology will be a core aspect of the project experience for all participants, and that physical exchanges may be available only to a subset of project participants. Projects must present an opportunity for participants to explore and learn about their own and another country's history and culture through music and/or the literary arts. Activities should include artistic performances, workshops, readings, lecture demonstrations, contextual learning, and on-going technology-based dialogues and virtual exchanges.

The overarching goals are:

1. To articulate identity through artistic expression, gain respect for the identity and artistic expression of another culture;

2. To learn about participants' own and another country's history through their music and/or literary arts;

3. To incorporate cultural awareness and build mutual understanding and respect for other countries;

4. To foster continuing personal and institutional ties between participants and partner countries.

A successful project will equip participating musicians, authors, teachers, and college and/or high school students with an understanding of how music and/or the literary arts open a window into a country's history. For the teachers, it will also provide insight on how music and/or the literary arts can be used as a tool to educate students about their country and their culture. During their exchange experience, participants should engage in a variety of activities such as performances, workshops, readings, community- and/or learning-based programs, seminars, and other activities designed to achieve the program's stated goals. We encourage exchange projects that require collaborative work across cultures, that include a public presentation, and that involve public schools and colleges in the U.S. and abroad.

Proposal narratives must demonstrate the applicant's capacity in the partner country through their own offices or a partner institution to successfully conduct the proposed exchange activities. The requisite capacity includes the ability to recruit and select participants in both the United States and the partner countries in close consultation with the relevant U.S. Embassies; to organize substantive exchange activities in the participating countries; to handle the logistical and financial arrangements; and to implement follow-on alumni activities in which participants may locally apply what they learned during the exchange.

Cost sharing provided by the grantee organization may be used for presentation costs in the United States and should be noted in the budget.

Proposals must describe a selection process for American and international participants and demonstrate how the participant group represents an under-served community. For example, an under-served community could be economically disadvantaged, geographically isolated or experience low literacy rates. Selected participants should demonstrate a commitment to leadership in their communities. If participants are not fluent in English, proposals should include provision for interpretation as necessary.

Applicants should identify which literary or musical genres will be included in the exchange and demonstrate how each part of the two-way exchange will accomplish the over-arching goals of this competition. Proposals might focus exclusively on an exchange in one field, such as urban or blues music.

Alternatively, a more community-based project could include artists from various musical and/or literary arts fields, as a well as a representative of a community arts organization. Literature/writing projects should be in the creative writing field. All projects must include an examination of cultural diversity, history and the arts as a means of educational outreach and civic engagement.

Proposed Partner Countries

ECA will accept proposals for either single-country or multi-country projects. We can only accept proposals for projects with the countries listed below. A single-country project is a two-way exchange between the United States and a single partner country. With a multi-country project, participants from the partner countries should travel to the United States together; the American participants' exchange travel may be to just one or to all of the partner countries, depending on the applicant organization's program design and objectives. Applicants should present a rationale for their approach. No guarantee is made or implied that grants will be awarded in all themes and for all countries listed. Organizations should consider current U.S. Department of State travel advisories when selecting the countries with which they would like to work.

Eligible Countries

South Africa, Indonesia, Syria, Mexico, India.

Applicants should propose the period of the two exchange components and explain how together the exchange in each direction will accomplish project objectives. The exact timing of the project may be altered through the mutual agreement of the Department of State and the grant recipient. Each exchange component should be no less than two weeks and up to four weeks in duration. Program development should begin in late summer/early fall 2010. Applicants must include letters of support in their proposals.

II. Award Information

Type of Award: Grant Agreement.

Fiscal Year Funds: FY-2010.

Approximate Total Funding: $4,000,000.

Approximate Number of Awards: 12-15.

Approximate Average Award: $350,000.

Ceiling of Award Range: Up to $500,000 for each award.

Anticipated Award Date: August 2010.

Anticipated Project Completion Date: August 2012.

Additional Information: As stipulated in the legislation, this is a competitive one-time grants program.

III. Eligibility Information

III.1. Eligible applicants: Applications must be submitted by public and private non-profit organizations meeting the provisions described in Internal Revenue Code section 26 USC 501(c)(3).

Organizations listed in the House Report 111-187 and the Senate Report 111-44 under “Educational and Cultural Exchange Programs” are encouraged to apply.

Per Senate Report 111-44, “The Committee notes that an exchange program that received a one-time grant in a previous year is ineligible for additional one-time funding, but the Committee encourages the Department to consider new proposals from previously funded grantees within discretionary funding if they meet appropriate guidelines.” Please see section III.3. Other Eligibility Requirements, below.

III.2. Cost Sharing or Matching Funds: There is no minimum or maximum percentage required for this competition. However, the Bureau encourages applicants to provide the highest possible levels of cost sharing and funding in support of its projects, noting that cost sharing is one of the criteria for reviewing proposals.

When cost sharing is offered, it is understood and agreed that the applicant must provide the amount of cost sharing as stipulated in its proposal and later included in an approved grant agreement. Cost sharing may be in the form of allowable direct or indirect costs. For accountability, written records must be maintained to support all costs which are claimed as contributions, as well as costs to be paid by the Federal government. Such records are subject to audit. The basis for determining the value of cash and in-kind contributions must be in accordance with OMB Circular A-110, (Revised), Subpart C.23—Cost Sharing and Matching. In the event that the minimum amount of cost sharing is not provided as stipulated in the approved budget, ECA's contribution will be reduced in like proportion.

III.3. Other Eligibility Requirements:

(a.) Grants awarded to eligible organizations with less than four years of experience in conducting international exchange programs will be limited to $60,000. Therefore, applicants should explain, with examples, their experience in conducting international exchanges, and, if that experience is less than four years, should limit their proposed grant budgets to $60,000.

(b.) Technical Eligibility: All proposals must comply with the following:

—Eligible applicants may submit only ONE proposal (TOTAL) for ONE of the two competitions referenced in the Executive Summary Section of this document. If multiple proposals are received from the same applicant, all submissions from that applicant will be declared technically ineligible and will be given no further consideration in the review process. In addition, applicants under this competition: ECA/PE/C-10-One-time-Comp. B) may only apply to administer one of the listed activities (total).

—Proposals requesting funding for infrastructure development activities, sometimes referred to as “bricks and mortar support,” are NOT eligible for consideration under this competition and will be declared technically ineligible and will receive no further consideration in the review process.

—No funding is available exclusively to send U.S. citizens to conferences or conference-type seminars overseas; nor is funding available for bringing foreign nationals to conferences or to routine professional association meetings in the United States.

—An exchange program/activity that was funded under one-time grant competitions in previous years, (FY-2008 Competitive One-time Grants Program—Reference numbers: ECA/A-08-One-time-Comp. A or ECA/PE/C-08-One-time-Comp. B; or the FY-2009 Competitive One-time Grants Program—Reference numbers: ECA/A-09-One-time-Comp. A or ECA/PE/C-09 One-time-Comp. B) is ineligible for additional one-time funding under this competition. However, “previously funded grantees” under previous one-time competitions, referenced above, may submit proposals under this competition, if the proposal is for a new exchange program. Applications submitted by prior-year one-time grant recipients must include in their proposal narrative/submission a narrative description of the specific elements that make their submission under the FY-2010 one-time competition a new exchange program, rather than a repetition, or extension to what was funded by ECA under a prior year award. Elements that would contribute to the program's being considered “new” for the purposes of this competition would include: new overseas partner institution(s), a new country and/or world region of activity, a substantially different thematic topic, a new participant profile. Final determination of a proposal's eligibility as a “new” activity will be made by the Bureau of Educational and Cultural Affairs. If the application does not include a narrative explaining how the project qualifies as “new,” it will be declared technically ineligible and will receive no further consideration in the review process.

Please refer to the Proposal Submission Instructions (PSI) document for additional requirements.

IV. Application and Submission Information

Note: Please read the complete announcement before sending inquiries or submitting proposals. Once the RFGP deadline has passed, Bureau staff may not discuss this competition with applicants until the proposal review process has been completed.

IV.1. Contact Information To Request an Application Package:

Please contact David Gustafson, Office of Citizen Exchanges ECA/PE/C, SA-5, Third Floor, U.S. Department of State, 2200 C Street, NW., Washington, DC 20522-0504, (202) 632-6083, fax: (202) 632-9355, GustafsonDP@state.gov to request a Solicitation Package. Please refer to Funding Opportunity Number ECA/PE/C-10-One-time-Comp.B also located at the top of this announcement when making your request.

The Solicitation Package contains the Proposal Submission Instructions (PSI) document which consists of required application forms, and standard guidelines for proposal preparation.

Please specify Program Coordinator David Gustafson, and refer to the Funding Opportunity Number ECA/PE/C-10-One-time-Comp.B located at the top of this announcement on all other inquiries and correspondence.

IV.2. To Download a Solicitation Package Via Internet:

The entire Solicitation Package may be downloaded from the Bureau's Web site at http://exchanges.state.gov/education/rfgps/menu.htm. Please read all information before downloading.

IV.3. Content and Form of Submission: Applicants must follow all instructions in the Solicitation Package. The original and seven copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget. The summary and narrative must be presented in double-spaced typing.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final project reporting requirements, award recipients will also be required to submit a one-page document, derived from their project reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

Please Note: If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: Office of Designation, ECA/EC/D, SA-5, Floor C2, Department of State, Washington, DC 20522-0582.

IV.3d.2. Diversity, Freedom and Democracy Guidelines

Pursuant to the Bureau's authorizing legislation, projects must maintain a non-political character and should be balanced and representative of the diversity of American political, social, and cultural life. “Diversity” should be interpreted in the broadest sense and encompass differences including, but not limited to, ethnicity, race, gender, religion, geographic location, socio-economic status, and disabilities. Applicants are strongly encouraged to adhere to the advancement of this principle both in project administration and in project content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their project contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing the proposal budget:

IV.3e.1. Applicants must submit SF-424A—“Budget Information—Non-Construction Programs” along with a comprehensive budget for the entire project. There must be a summary budget as well as breakdowns reflecting both administrative and program budgets. Applicants may provide separate sub-budgets for each project component, phase, location, or activity to provide clarification.

IV.3e.2. Allowable costs for the project include the following:

(1) Travel. International and domestic airfare; visas; transit costs; ground transportation costs. Please note that all air travel must be in compliance with the Fly America Act. There is no charge for J-1 visas for participants in Bureau-sponsored programs.

(2) Per Diem. For U.S.-based programming, organizations should use the published Federal per diem rates for individual U.S. cities. Domestic per diem rates may be accessed at: http://www.gsa.gov/Portal/gsa/ep/contentView.do?contentId=17943&contentType=GSA_BASIC.

Living costs during foreign-based activities must not exceed USG-approved per diem rates, which can be found at http://Aoprals.State.Gov/Content.Asp?Content_Id=184&Menu_Id=81.

Please refer to the Solicitation Package for complete budget guidelines and formatting instructions.

IV.3f. Submission Dates and Times

Application Deadline Date: April 12, 2010.

Methods of Submission:

Applications may be submitted in one of two ways:

(1.) In hard-copy, via a nationally recognized overnight delivery service (i.e., Federal Express, UPS, or U.S. Postal Service Express Overnight Mail, etc.), or

(2.) Electronically through http://www.grants.gov.

Along with the Project Title, all applicants must enter the competition Reference Number ECA/PE/C-10-One-time-Comp.B in Box 11 on the SF-424 contained in the mandatory Proposal Submission Instructions (PSI) of the solicitation document.

IV.3f.1—Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

Applicants must also submit the “Executive Summary” and “Proposal Narrative” and budget sections of the proposal as well as any essential attachments, in Microsoft Word and/or Excel on a CD-ROM. The Bureau will provide these files electronically to the appropriate Public Affairs Sections at the U.S. Embassies for their review.

The original and seven copies of the application should be sent to: U.S. Department of State, Program Management Division, ECA-IIP/EX/PM, Ref.: ECA/PE/C-10-One-time-Comp.B, SA-5, Floor 4, Department of State, 2200 C Street, NW., Washington, DC 20522-0504.

Applicants submitting hard-copy applications must also submit the “Executive Summary” and “Proposal Narrative” and “Budget” sections of the proposal in text (.txt) or Microsoft Word format on a PC-formatted disk. The Bureau will provide these files electronically to the appropriate Public Affairs Section(s) at the U.S. embassy(ies) for its(their) review.

IV.3f.2—Submitting Electronic Applications

Applicants have the option of submitting proposals electronically through Grants.gov (http://www.grants.gov). Complete solicitation packages are available at Grants.gov in the “Find” portion of the system.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including a lengthy section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section of the relevant U.S. Embassy overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the project idea and project planning:

The project's purpose should clearly fit one of the eligible themes described above, and the proposal should clearly demonstrate how the institution plans to pursue the project's objectives. The proposed project should be creative and well developed, respond to the design outlined in the solicitation, and demonstrate originality. It should be clearly and accurately written, substantive, and with sufficient detail to ensure practical success. The project plan should adhere to the program overview and guidelines described above. Please note: Proposals submitted by prior-year one-time grant recipients must include in their proposal submission a description of the specific elements that make this submission a new exchange program rather than a repetition or extension of what was funded by ECA under a prior-year award.

2. Ability to achieve project objectives: Objectives should be reasonable, feasible, and relevant to the proposed theme. Proposals should clearly plan activities in a sequence that will progressively lead to achieving those objectives.

3. Support of diversity: The proposal should acknowledge ECA's policy on diversity and should demonstrate the recipient's commitment to promoting the awareness and understanding of diversity in participant selection and exchange project design and content.

4. Institutional capacity and track record: Proposed personnel and institutional resources should be adequate and appropriate to achieve the project goals. The proposal should demonstrate an institutional record, including solid programming and responsible fiscal management. The Bureau will consider past performance, including compliance with all reporting requirements for past Bureau grants.

5. Project evaluation: The proposal should include a plan to evaluate the project's success, both as the activities unfold and at the end of the program. The proposal should include a draft survey questionnaire or other data-collection technique plus description of a methodology to link outcomes to original project objectives. Please see Section IV.3d.3. of this announcement for more information.

6. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original grant proposal with subsequent modifications (if applicable) shall be the only binding authorizing document between the recipient and the U.S. Government. The FAA will be signed by an authorized Grants Officer, and mailed to the recipient's responsible officer identified in the application.

Prohibition on the use of Federal Funds to Promote, Support, or advocate for the legalization or practice of Prostitution.

The U.S. Government is opposed to prostitution and related activities, which are inherently harmful and dehumanizing, and contribute to the phenomenon of trafficking in persons. None of the funds made available under this agreement may be used to promote, support, or advocate the legalization or practice of prostitution. Nothing in the preceding sentence shall be construed to preclude assistance designed to ameliorate the suffering of, or health risks to, victims while they are being trafficked or after they are out of the situation that resulted from such victims being trafficked. The recipient shall insert the foregoing provision in all sub-agreements under this award.

This provision includes express terms and conditions of the agreement and any violation of it shall be grounds for unilateral termination of the agreement by the Department of State prior to the end of its term.

Awards With the Palestinian Authority

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact: Thomas Johnston, Office of Citizen Exchanges, (202) 632-6087; JohnstonTJ@state.gov for additional information.

VI.2. Administrative and National Policy Requirements

Terms and Conditions for the Administration of ECA agreements include the following:

Office of Management and Budget Circular A-122, “Cost Principles for Nonprofit Organizations”.

Office of Management and Budget Circular A-21, “Cost Principles for Educational Institutions”.

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please refer to the following Web sites for additional information: http://www.whitehouse.gov/omb/grants. http://fa.statebuy.state.gov.

VI.3. Reporting Requirements: You must provide ECA with a hard copy original plus 10 copies of the following reports:

(1.) A final program and financial report no more than 90 days after the expiration of the award;

(2.) A concise, one-page final program report summarizing program outcomes no more than 90 days after the expiration of the award. This one-page report will be transmitted to OMB, and be made available to the public via OMB's USAspending.gov Web site—as part of ECA's Federal Funding Accountability and Transparency Act (FFATA) reporting requirements.

(3.) A SF-PPR, “Performance Progress Report” Cover Sheet with all program reports.

Award Recipients will be required to provide reports analyzing their evaluation findings to the Bureau in their regular project reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Brent Beemer, ECA/PE/C, SA-5, Third Floor, 2200 C Street, NW., Washington, DC 20522-0503, tel 202-632-6067, fax 202-632-9355, BeemerBT@state.gov.

All correspondence with the Bureau concerning this RFGP should reference the above title and number ECA/PE/C-10-One-time-Comp.B.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 26, 2010.
Maura M. Pally,
Acting Assistant Secretary for Educational and Cultural Affairs, Department of State.

[FR Doc. 2010-4557 Filed 3-3-10; 8:45 am]

BILLING CODE 4710-05-P